DEPARTMENT OF COMMERCE

International Trade Administration

[A-580-891]

Carbon and Alloy Steel Wire Rod From the Republic of Korea: Final Results of Antidumping Duty Administrative Review; 2021-2022

AGENCY: Enforcement and Compliance, International Trade Administration, Department of Commerce.

SUMMARY: The U.S. Department of Commerce (Commerce) determines that carbon and alloy steel wire rod (wire rod) from the Republic of Korea (Korea) were not sold in the United States at less than normal value during the period of review (POR), May 1, 2021, through April 30, 2022.

DATES: Applicable November 28, 2023.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On June 2, 2023, Commerce published the Preliminary Results of this administrative review in accordance with sections 751(a)(1) and 777(i)(1) of the Tariff Act of 1930, as amended (the Act).¹ POSCO/POSCO International Corporation (PIC) is the sole producer and exporter that is subject to this administrative review. Between July and August 2023, we conducted sales verifications of the questionnaire responses in accordance with section 782(i) of the Act.² Following the verifications, we invited interested parties to submit case and rebuttal briefs.³ We received no comments from interested parties. Accordingly, no decision memorandum accompanies this Federal Register notice.

¹ See Carbon and Alloy Steel Wire Rod from the Republic of Korea: Preliminary Results of Antidumping Duty Administrative Review; 2021-2022, 88 FR 36277 (June 2, 2023) (Preliminary Results), and accompanying Preliminary Decision Memorandum (PDM).

² See Memoranda, “CEP Sales Verification Report for POSCO International America Corporation” and “Sales Verification Report for POSCO and POSCO International Corporation,” both dated October 27, 2023.

³ See Memorandum, “Briefing Schedule,” dated October 27, 2023.

POSCO filed a hearing request on July 3, 2023, and subsequently withdrew its request on November 9, 2023.⁴ On September 22, 2023, we extended the deadline for the final results to no later than November 29, 2023.⁵ Commerce conducted this review in accordance with section 751(a) of the Act.

⁴ See POSCO's Letters, “Request for Public Hearing,” dated July 3, 2023, and “Withdrawal of Request for Public Hearing,” dated November 9, 2023.

⁵ Memorandum, “Extension of Deadline for Final Results,” dated September 22, 2023.

Scope of the Order ⁶

⁶ See Carbon and Alloy Steel Wire Rod from Italy, the Republic of Korea, Spain, the Republic of Turkey, and the United Kingdom: Antidumping Duty Orders and Amended Final Affirmative Antidumping Duty Determinations for Spain and the Republic of Turkey, 83 FR 23417 (May 21, 2018) (Order).

The scope of the Order includes certain hot-rolled products of carbon steel and alloy steel, in coils, of approximately round cross section, less than 19.00 mm in actual solid cross-sectional diameter. On April 8, 2019, Commerce excluded from the scope of the Order grade 1078 and higher tire cord quality wire rod used in the production of tire cord wire.⁷ On June 13, 2019, Commerce excluded from the scope of the Order valve spring quality steel products defined as wire rod.⁸ For a complete description of the scope of the Order, see Preliminary Results PDM.

⁷ See Carbon and Alloy Steel Wire Rod from the Republic of Korea and the United Kingdom: Notice of Final Results of Antidumping Duty Changed Circumstances Review, 84 FR 13888 (April 8, 2019).

⁸ See Carbon and Alloy Steel Wire Rod from the Republic of Korea: Final Results of Antidumping Duty Changed Circumstances Review, 84 FR 27582 (June 13, 2019).

Changes Since the Preliminary Results

In the Preliminary Results, we used the quarterly cost methodology.⁹ While preparing the verification outlines, we found that we did not deploy the methodology properly in the preliminarily margin calculation program. For these final results, we corrected the error in the final margin calculation program, and that correction did not change the preliminarily weighted-average dumping margin.¹⁰

⁹ See Preliminarily Results PDM at 16-17.

¹⁰ See Memorandum, “Final Calculation Memorandum for POSCO,” dated concurrently with this notice.

Final Results of the Review

We determine that the following estimated weighted-average dumping margin exists for the period May 1, 2021, through April 30, 2022:

Producer/exporter | Weighted- average dumping margin (percent)
POSCO/POSCO International Corporation | 0.00

Disclosure

We intend to disclose to interested parties the corrected margin calculation program within five days of the publication date of this notice, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.¹¹ Because POSCO's weighted-average dumping margin is zero percent, we intend to instruct CBP to liquidate the appropriate entries without regard to antidumping duties.

¹¹ See Antidumping Proceeding: Calculation of the Weighted-Average Dumping Margin and Assessment Rate in Certain Antidumping Duty Proceedings; Final Modification, 77 FR 8101 (February 14, 2012).

In accordance with Commerce's practice, for entries of subject merchandise during the POR produced by POSCO for which it did not know its merchandise was destined for the United States, we intend to instruct CBP to liquidate such entries at the all-others rate if there is no company-specific rate for the intermediate company(ies) involved in the transaction.¹²

¹² See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) the cash deposit rate for POSCO will be zero; (2) for previously-investigated companies not participating in this review, the cash deposit rate will continue to be the company-specific rate published for the most recently completed segment of this proceeding; (3) if the exporter was not covered in this review or the investigation, but the producer was covered, the cash deposit rate will be the rate established in the most recently completed segment of this proceeding for the producer of subject merchandise; and (4) the cash deposit rate for all other producers or exporters will continue to be 41.10 percent, the all-others rate established in the original less-than-fair-value investigation.¹³ These cash deposit requirements, when imposed, shall remain in effect until further notice.

¹³ See Order.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Administrative Protective Order

This notice also serves as the only reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.213(h) and 351.221(b)(5).

Dated: November 20, 2023.
Abdelali Elouaradia,
Deputy Assistant Secretary for Enforcement and Compliance.

[FR Doc. 2023-26135 Filed 11-27-23; 8:45 am]

BILLING CODE 3510-DS-P